DEPARTMENT OF HEALTH AND HUMAN SERVICES

National Institutes of Health

Proposed Collection; Comment Request; Agricultural Health Study—A Prospective Cohort Study of Cancer and Other Diseases Among Men and Women in Agriculture

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Agricultural Health Study—A Prospective Cohort Study of Cancer and Other Diseases Among Men and Women in Agriculture. Type of Information Collection Request: Extension of a currently approved collection (0925-0406, expiration 11/31/03). Need and Use of Information Collection: The Agricultural Health Study is in its fifth year of follow-up data collection for a prospective cohort of 89,658 farmers, their spouses, and commercial applicators of pesticides from Iowa and North Carolina. Follow-up is not yet complete for a segment of the cohort, commercial applicators (n=4,916). An extension until November 30, 2005 is requested to complete this data collection. Frequency of Response: Single time reporting. Affected Public: Individuals. Type of Respondent: Commercial pesticide applicators. The annual reporting burden is as follows: Estimated Number of Respondents: 2,458; Estimated Number of Responses per Respondent: 1.0; Average Burden Hours Per Response: 1.66; and Estimated Total Annual Burden Hours Requested: 2,940. The annualized cost to respondents is estimated at: $29,400. There are no Capital Costs to report. There are no Operating or Maintenance Costs to report.

Request for Comments: Written comments and/or suggestions from the public and affected agencies are invited on one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

For Further Information: To request more information on the proposed project or to obtain a copy of the data collection plans and instruments, contact Michael C.R. Alavanja, Dr. P.H., Epidemiology and Biostatistics Program, Division of Cancer Etiology, National Cancer Institute, EPN 8000, 6120 Executive Boulevard, Rockville, MD 20852; or call (310) 435-4720; or e-mail your request, including your address to: alavanjam@mail.nih.gov.

Comments Due Date: Comments regarding this information collection are best assured of having their full effect if received on or before September 29, 2003.

Dated: July 24, 2003.
Reesa Nichols,
NCI Project Clearance Liaison.

[FR Doc. 03-19558 Filed 7-31-03; 8:45 am]

BILLING CODE 4140-01-M